DEPARTMENT OF COMMERCE

National Oceanic and Atmospheric Administration

RIN 0648-XK52

Fisheries of the South Atlantic and Gulf of Mexico; SEDAR; Public Meetings

AGENCY: National Marine Fisheries Service (NMFS), National Oceanic and Atmospheric Administration (NOAA), Commerce.

ACTION: Notice of Southeastern Data, Assessment, and Review (SEDAR) Procedural workshop - Caribbean Data Evaluation.

SUMMARY: The Council-Federal cooperative SEDAR process provides stock assessments for fisheries resources of the Southeast Region. Assessment priorities are typically established by management need or perceptions of management or population problems, and often do not consider data availability. As a result, despite several attempts by SEDAR, no acceptable quantitative assessments have been developed for Caribbean stocks because data to support traditional stock assessment methods simply do not exist. It is clear that alternative methods need to be developed that will allow assessing Caribbean fisheries resources in a manner that will withstand independent peer review. Identifying and evaluating available data sources across all managed species is a strong first step that is consistent with peer review and assessment report recommendations.

SEDAR will convene a workshop including representatives from Federal agencies, territorial governments, non-governmental organizations, Council technical and constituent advisors, and university researchers. Participants will catalog and evaluate basic data, address alternative assessment methods that will accommodate the available data, and recommend assessment priorities that are consistent with available data and methods.

DATES: The SEDAR Caribbean Data Evaluation Workshop will take place January 26-29, 2009; SEDAR Catchability Procedural Workshop Schedule: January 26, 2009: 1 p.m. - 8 p.m.; January 27-28, 2009: 8 a.m. - 8 p.m.; January 29, 2009: 8 a.m. - 3 p.m.

ADDRESSES: The SEDAR Caribbean Data Evaluation Workshop will be held at the Hotel El Convento, 100 Cristo Street, Old San Juan, Puerto Rico 00901; telephone: (787) 723-9036.

Council address: South Atlantic Fishery Management Council, 4055 Faber Place Drive, Suite 201, North Charleston, SC 29405.

FOR FURTHER INFORMATION CONTACT: Julie Neer, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the SEDAR process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and non-governmental organizations (NGO's); International experts; and staff of Councils, Commissions, and state and federal agencies.

Each SEDAR workshop panel is asked to provide research and monitoring recommendations to improve future assessments and feedback on the process to help improve SEDAR itself. Over time, certain key topics emerge that reveal a research need or procedural suggestion that is common to multiple assessments. The SEDAR Steering Committee endorses procedural workshops such as that noticed here to address those issues that affect multiple assessments and require more time and resources to resolve than are typically available during the normal assessment development process. The goal of these workshops is to develop guidelines and practices that will increase the efficiency of subsequent SEDAR assessments.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305 (c) of the Magnuson-Stevens Act, provided the public has been notified of the Council's intent to take final action to address the emergency.

Special Accommodations

These meetings are physically accessible to people with disabilities. Requests for sign language interpretation or other auxiliary aids should be directed to the Council office (see ADDRESSES) at least 10 business days prior to each workshop.

Dated: September 10, 2008.
Tracey L. Thompson,
Acting Director, Office of Sustainable Fisheries, National Marine Fisheries Service.

[FR Doc. E8-21471 Filed 9-12-08; 8:45 am]

BILLING CODE 3510-22-S